DEPARTMENT OF TRANSPORTATION

Federal Aviation Administration

Proposed Modification of the Chicago, IL Class B Airspace Area; Public Meetings

AGENCY: Federal Aviation Administration (FAA), DOT.

ACTION: Notice of meetings.

SUMMARY: This notice announces three fact-finding informal airspace meetings to solicit information from airspace users and others concerning a proposal to revise the Class B airspace area at Chicago, IL. The purpose of these meetings is to provide interested parties an opportunity to present views, recommendations, and comments on the proposal. All comments received during these meetings will be considered prior to any revision or issuance of a notice of proposed rulemaking.

Times and Dates: The informal airspace meetings will be held on Tuesday, September 23, 2008, from 2 p.m.-7 p.m., Wednesday, September 24, 2008, from 10 a.m.-2 p.m., and Thursday, September 25, 2008, from 2 p.m.-7 p.m. Comments must be received on or before October 2, 2008.

ADDRESSES: (1) The meeting on Tuesday, September 23, 2008, will be held at Signature Flight Center, Chicago Executive Airport, 1100 South Milwaukee Avenue, Wheeling, IL 60090. (2) The meeting on Wednesday, September 24, 2008, will be held at DuPage Flight Center, Chicago DuPage Airport, 2700 International Drive, West Chicago, IL 60185. (3) The meeting on Thursday, September 25, 2008, will be held at Signature Flight Center, Chicago Executive Airport, 1100 South Milwaukee Avenue, Wheeling, IL 60090.

Comments: Send comments on the proposal to: Don Smith, Manager, Operations Support Group, Air Traffic Organization Central Service Center, Federal Aviation Administration, 2601 Meacham Boulevard, Fort Worth, Texas, 76137, or by fax to (817) 222-5547.

FOR FURTHER INFORMATION CONTACT: Anne Hulsey, FAA Chicago TRACON, 1100 Bowes Road, Elgin, IL, 60123; Telephone (847) 608-5524.

SUPPLEMENTARY INFORMATION:

Meeting Procedures

(a) The meetings will be informal in nature and will be conducted by one or more representatives of the FAA Central Service Center. A representative from the FAA will present a formal briefing on the planned modification to the Class B airspace at Chicago, IL. Each participant will be given an opportunity to deliver comments or make a presentation. Only comments concerning the plan to modify the Class B airspace area at Chicago, IL, will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded.

Agenda for the Meetings

—Sign-in.

—Presentation of Meeting Procedures.

—FAA explanation of the planned Class B modifications.

—Solicitation of Public Comments.

—Closing Comments.

Authority: 49 U.S.C. 106(g), 40103, 40113, 40120; E.O. 10854, 24 FR 9565, 3 CFR, 1959-1963 Comp., p. 389.

Issued in Washington DC, on July 23, 2008.
Stephen Rohring,
Acting Manager, Airspace and Rules Group.

[FR Doc. E8-17383 Filed 7-29-08; 8:45 am]

BILLING CODE 4910-13-P